DEPARTMENT OF THE INTERIOR

Bureau of Land Management

[ID 100 1220MA 024D 252X: DBG071003]

Notice of Public Meeting: Resource Advisory Council to the Boise District, Bureau of Land Management, U.S. Department of the Interior

AGENCY: Bureau of Land Management, U.S. Department of the Interior.

ACTION: Notice of Public Meeting.

SUMMARY: In accordance with the Federal Land Policy and Management Act (FLPMA) and the Federal Advisory Committee Act of 1972 (FACA), the U.S. Department of the Interior, Bureau of Land Management (BLM) Boise District Resource Advisory Council (RAC), will hold a special meeting as indicated below.

DATES: The special meeting will be held December 18, 2006, beginning at 11:45 a.m. and adjourning at 4:30 p.m. The meeting will be held at the Boise District Office located at 3948 Development Avenue, Boise, Idaho. Public comment periods will be held after each of the topics on the agenda.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho. A presentation will be given reviewing the formation of the Recreation Fee Subcommittee and the fee proposal, review and approval process. Advice from the RAC will be sought in helping BLM determine the Preferred Alternative for the Draft Environmental Impact Statement (DEIS) for the Bruneau Resource Management Plan (RMP). This special meeting is scheduled prior to the next quarterly meeting, in order for the BLM to receive input from the RAC and remain on schedule with the development of the RMP.

Agenda items and location may change due to changing circumstances, including wildfire emergencies. All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM Coordinator as provided above. Expedited publication is requested to give the public adequate notice.

Dated: November 17, 2006.
David Wolf,
Acting, District Manager.

[FR Doc. E6-19843 Filed 11-22-06; 8:45 am]

BILLING CODE 4310-GG-P